DEPARTMENT OF COMMERCE

International Trade Administration

[A-583-838]

Notice of Amended Preliminary Determination of Sales at Less Than Fair Value: Structural Steel Beams From Taiwan

AGENCY: Import Administration, International Trade Administration, Department of Commerce.

ACTION: Notice of amended preliminary determination of sales at less than fair value.

EFFECTIVE DATE: January 31, 2002.

FOR FURTHER INFORMATION CONTACT: Kate Johnson or Rebecca Trainor, Import Administration, International Trade Administration, U.S. Department of Commerce, 14th Street and Constitution Avenue, NW., Washington, DC 20230; telephone: (202) 482-4929 or (202) 482-4007, respectively.

SUPPLEMENTARY INFORMATION: Unless otherwise indicated, all citations to the Tariff Act of 1930, as amended (the Act), are references to the provisions effective January 1, 1995, the effective date of the amendments made to the Act by the Uruguay Round Agreements Act. In addition, unless otherwise indicated, all citations to the Department of Commerce's (the Department's) regulations are references to 19 CFR part 351 (April 2001).

Amended Preliminary Determination

We are amending the preliminary determination of sales at less than fair value for structural steel beams from Taiwan to reflect the correction of a ministerial error made in the margin calculations in that determination. We are publishing this amendment to the preliminary determination pursuant to 19 CFR 351.224(e).

Case History

On December 19, 2001, the Department preliminarily determined that structural steel beams from Taiwan are being, or are likely to be, sold in the United States at less than fair value (66 FR 67202, December 28, 2001).

On December 20 and 27, 2001, we disclosed our calculations for the preliminary determination to counsel for Tung Ho Steel Enterprise Corp. (Tung Ho) and Kuei Yi Industrial Co., Ltd. (Kuei Yi), respectively. On January 2, 2002, we disclosed our calculations to counsel for the petitioners.

On January 7, 2002, we received a submission, timely filed pursuant to 19 CFR 351.224(c)(2), from the petitioners alleging a ministerial error in the Department's preliminary determination. In their submission, the petitioners stated that the correction of this error would result in a significant change in the Department's preliminary determination. We did not receive ministerial error allegations from either respondent.

Amendment of Preliminary Determination

The Department's regulations provide that the Department will correct any significant ministerial error by amending the preliminary determination. See 19 CFR 351.224(e). A significant ministerial error is an error the correction of which, either singly or in combination with other errors: (1) Would result in a change of at least five absolute percentage points in, but not less than 25 percent of, the weighted-average dumping margin calculated in the original (erroneous) preliminary determination; or (2) would result in a difference between a weighted-average dumping margin of zero (or de minimis) and a weighted-average dumping margin of greater than de minimis, or vice versa. See 19 CFR 351.224(g).

After analyzing the petitioners' submission, we have determined that a ministerial error was made in the margin calculation for Kuei Yi in the preliminary determination. Specifically, we inadvertently failed to convert Kuei Yi's home market discounts and rebates into U.S. dollars for the calculation of home market net unit price.

Pursuant to 19 CFR 351.224(g)(1), the ministerial error acknowledged above for Kuei Yi is significant because the correction of the ministerial error results in a change of at least five absolute percentage points in, but not less than 25 percent of, the weighted-average dumping margin calculated in the original preliminary determination. Therefore, we have recalculated the margin for Kuei Yi. In addition, we have recalculated the “All Others Rate.” The Department hereby amends its preliminary determination with respect to Kuei Yi to correct this error.

The revised weighted-average dumping margins are as follows:

Exporter/manufacturer | Weighted-average margin margin percentage
Kuei Yi Industrial Co., Ltd | 34.56
All Others | 25.45

Suspension of Liquidation

In accordance with section 733(d)(2) of the Act, the Department will direct the Customs Service to continue to suspend liquidation of all entries of structural steel beams from Taiwan that are entered, or withdrawn from warehouse, for consumption, on or after the date of publication of this notice in the Federal Register. The Customs Service shall continue to require a cash deposit or the posting of a bond equal to the estimated amount by which the normal value exceeds the U.S. price as shown above. These instructions will remain in effect until further notice.

International Trade Commission Notification

In accordance with section 733(f) of the Act, we have notified the International Trade Commission of the amended preliminary determination.

This amended preliminary determination is published pursuant to section 777(i) of the Act and 19 CFR 351.224(e).

Dated: January 24, 2002.
Faryar Shirzad,
Assistant Secretary for Import Administration.

[FR Doc. 02-2412 Filed 1-30-02; 8:45 am]

BILLING CODE 3510-DS-P